DEPARTMENT OF THE INTERIOR

National Park Service

[NPS-WASO-NAGPRA-NPS0025755; PPWOCRADN0-PCU00RP14.R50000]

Notice of Inventory Completion: San Diego Museum of Man, San Diego, CA

AGENCY: National Park Service, Interior.

ACTION: Notice.

SUMMARY: The San Diego Museum of Man has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the San Diego Museum of Man. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the San Diego Museum of Man at the address in this notice by August 13, 2018.

ADDRESSES: Ben Garcia, Deputy Director, San Diego Museum of Man, 1350 El Prado, San Diego, CA 92101, telephone (619) 239-2001 ext. 17, email bgarcia@museumofman.org.

SUPPLEMENTARY INFORMATION: Notice is here given in accordance with the Native American Graves Protection and Repatriation Act (NAGPRA), 25 U.S.C. 3003, of the completion of an inventory of human remains under the control of the San Diego Museum of Man, San Diego, CA. The human remains were removed from Kanaga Island, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the San Diego Museum of Man professional staff in consultation with representatives of the Aleut Corporation and the Native Village of Atka.

History and Description of the Remains

At an unknown date, human remains representing, at minimum, one individual were removed from Kanaga Island, part of the Andreanof Islands group of the Aleutian Islands in Alaska. These human remains lack conclusive collection documentation regarding the date of collection, collector, or specific geographic location other than a general association to Kanaga Island. The human remains were donated to the San Diego Museum of Man by Lieutenant M. Nolan some time before 1950. No known individuals were identified. No associated funerary objects are present.

An examination of the human remains by San Diego Museum of Man physical anthropology professional staff determined the individual to be Native Alaskan. The Aleutian Islands are known to be aboriginal lands of the modern Aleut peoples. Based on museum records, geographical location, physical examination, and consultation, the museum reasonably believes the individual is culturally affiliated with the Native Village of Atka.

Determinations Made by the San Diego Museum of Man

Officials of the San Diego Museum of Man have determined that:

• Pursuant to 25 U.S.C. 3001(9), the human remains described in this notice represent the physical remains of one individual of Native American ancestry.

• Pursuant to 25 U.S.C. 3001(2), there is a relationship of shared group identity that can be reasonably traced between the Native American human remains and the Native Village of Atka.

Additional Requestors and Disposition

Lineal descendants or representatives of any Indian Tribe or Native Hawaiian organization not identified in this notice that wish to request transfer of control of these human remains should submit a written request with information in support of the request to Ben Garcia, Deputy Director, San Diego Museum of Man, 1350 El Prado, San Diego, CA 92101, telephone (619) 239-2001 ext. 17, email bgarcia@museumofman.org, by August 13, 2018. After that date, if no additional requestors have come forward, transfer of control of the human remains to the Native Village of Atka may proceed.

The San Diego Museum of Man is responsible for notifying the Native Village of Atka that this notice has been published.

Dated: June 11, 2018.
Melanie O'Brien,
Manager, National NAGPRA Program.

[FR Doc. 2018-14898 Filed 7-11-18; 8:45 am]

BILLING CODE 4312-52-P